SECURITIES AND EXCHANGE COMMISSION

Sunshine Act Meeting

Notice is hereby given, pursuant to the provisions of the Government in the Sunshine Act, Public Law 94-409, that the Securities and Exchange Commission will hold an Open Meeting on Wednesday, October 22, 2014 at 10 a.m., in the Auditorium, Room L-002.

The subject matter of the Open Meeting will be:

• The Commission will consider whether to adopt rules relating to credit risk retention by securitizers of asset-backed securities, as mandated by Section 15G of the Exchange Act and Section 941(b) of the Dodd-Frank Wall Street Reform and Consumer Protection Act.

The duty officer has determined that no earlier notice was practicable.

At times, changes in Commission priorities require alterations in the scheduling of meeting items.

For further information and to ascertain what, if any, matters have been added, deleted, or postponed, please contact:

The Office of the Secretary at (202) 551-5400.

Dated: October 17, 2014.
Brent J. Fields,
Secretary.

[FR Doc. 2014-25208 Filed 10-20-14; 11:15 am]

BILLING CODE 8011-01-P